DEPARTMENT OF ENERGY

Federal Energy Regulatory Commission

[Docket Nos. ER04-242-000, EL04-50-000, ER04-115-000, and EL04-47-000]

Pacific Gas and Electric Company, California Independent System Corporation; Notice of Initiation of Proceeding and Refund Effective Date

January 27, 2004.

Take notice that on January 23, 2004, the Commission issued an order in the above-referenced dockets initiating an investigation in Docket No. EL04-50-000 under section 206 of the Federal Power Act.

The refund effective date in Docket No. EL04-50-000, established pursuant to section 206(b) of the Federal Power Act, will be 60 days following publication of this notice in the Federal Register.

Magalie R. Salas,
Secretary.

[FR Doc. E4-166 Filed 2-2-04; 8:45 am]

BILLING CODE 6717-01-P